DEPARTMENT OF DEFENSE

Office of the Secretary

Strategic Environmental Research and Development Program, Scientific Advisory Board; Notice of Meeting

AGENCY: Department of Defense.

ACTION: Notice.

SUMMARY: This notice is published in accordance with Section 10(a)(2) of the Federal Advisory Committee Act (Pub. L. 92-463). The topic of the meeting on October 23-25, 2012 is to review new start research and development projects requesting Strategic Environmental Research and Development Program funds in excess of $1 million. This meeting is open to the public. Any interested person may attend, appear before, or file statements with the Scientific Advisory Board at the time and in the manner permitted by the Board.

DATES: Tuesday, October 23, 2012 from 9 a.m. to 5 p.m., Wednesday, October 24 from 9 a.m. to 3:45 p.m. and Thursday, October 25 from 8:30 a.m. to 10:30 a.m.

ADDRESSES: George Mason Conference Room at Metro Offices, 4601 North Fairfax Drive, Suite 1200, Arlington, VA 22203.

FOR FURTHER INFORMATION CONTACT: Mr. Jonathan Bunger, SERDP Office, 4800 Mark Center Drive, Suite 17D08 Alexandria, VA 22350-3600, by telephone at (571) 372-6384.

Dated: August 21, 2012.
Aaron Siegel,
Alternate OSD Federal Register Liaison Officer, Department of Defense.

[FR Doc. 2012-20921 Filed 8-24-12; 8:45 am]

BILLING CODE 5001-06-P